UNIFIED CARRIER REGISTRATION PLAN

Sunshine Act Meetings

TIME AND DATE: August 15, 2024, 12:00 p.m. to 4:00 p.m., Eastern Time.

PLACE: The meeting will take place at the Hotel Indigo Traverse City 263 W Grandview Parkway, Traverse City, MI 49684. The meeting will also be accessible via conference call and via Zoom Meeting and Screenshare. Any interested person may call (i) 1-929-205-6099 (US Toll) or 1-669-900-6833 (US Toll), Meeting ID: 973 8008 2585, to listen and participate in this meeting. The website to participate via Zoom Meeting and Screenshare is https://kellen.zoom.us/meeting/register/tJMuf-mopjkvEtGCoVMWN3tQ6EmUCVXWOmkD.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda

IV. Approval of Minutes of the June 6, 2024, UCR Board Meeting—UCR Board Chair

For Discussion and Possible Board Action

Draft Minutes from the June 6, 2024, UCR Board meeting will be reviewed. The Board will consider action to approve.

V. Report of FMCSA—FMCSA Representative

The Federal Motor Carrier Safety Administration (FMCSA) will provide a report on any relevant agency activity.

VI. Next Steps in Amending the UCR Agreement Including the Possible Formation of an Amendments Subcommittee—UCR Legal Counsel and UCR Board Chair

For Discussion and Possible Board Action

UCR Legal Counsel will discuss some of the more significant proposed changes to the UCR Agreement. The UCR Board Chair will discuss the formation and composition of an Amendments Subcommittee to consider these and other proposed amendments to the UCR Agreement. These proposed amendments will be considered in a manner which is in accordance with the Procedure for Amending the Unified Carrier Registration Plan Agreement (the “Procedure”). This Procedure was adopted by the UCR Board at its June 6, 2024, UCR Board meeting. The Board may consider action to approve the formation of an Amendments Subcommittee to consider proposed amendments to the UCR Agreement pursuant to the Procedure.

VII. UCR Penetration Test—Kellen Representative

For Discussion and Possible Board Action

Kellen's Chief Technology Officer will provide an update on relevant activity, to include a multi-year penetration testing proposal. The Board may consider action to approve a multi-year penetration testing proposal.

VIII. Subcommittee Reports

Finance Subcommittee

A. Distribution From the UCR Depository for Under-Cap States—UCR Finance Subcommittee Chair and UCR Depository Manager

The UCR Finance Subcommittee Chair and the UCR Depository Manager will provide an update on the distribution of fees from the UCR Depository to the participating states for the 2024 registration year.

B. UCR Administrative Fund Update—UCR Depository Manager

The UCR Depository Manager will provide an update on the financial status of the administrative fund for the 6 months ended June 30, 2024.

C. The Finance Subcommittee Recommendation to the Board Based on a 2026 Registration Fee Analysis To Notify FMCSA That the UCR Plan Registration Fee Schedule Will Remain Unchanged for 2026—UCR Finance Subcommittee Chair and UCR Depository Manager

For Discussion and Possible Board Action

The UCR Finance Subcommittee Chair and UCR Depository Manager will provide an analysis pertaining to the setting 200E; of 2026 registration fees. The Board may authorize and direct notification to the FMCSA that the UCR Plan registration fee schedule will remain unchanged for 2026.

D. The Finance Subcommittee Recommendation To Move UCR Plan Bank Accounts—UCR Finance Subcommittee Chair and UCR Depository Manager

For Discussion and Possible Board Action

The Finance Subcommittee Chair and UCR Depository Manager will discuss moving UCR Plan bank accounts from Truist Bank to a different bank. The Board may take action to approve the move of UCR Plan bank accounts from Truist Bank to a different bank.

Audit Subcommittee

A. The Audit Subcommittee Recommendation to the UCR Board That the UCR Plan Board Remake Existing Audit Compliance Initiatives and Annual State Audit Evaluation Criteria—UCR Audit Subcommittee Chair, UCR Audit Subcommittee Vice-Chair

For Discussion and Possible Board Action

The UCR Audit Subcommittee Chair and Vice-Chair will summarize the recommendations made by the Audit Subcommittee at its July 25, 2024, meeting to remake the existing compliance initiatives applicable to all UCR Plan participating States. The revised compliance initiatives would instead require, beginning with the 2025 registration/audit year, that all participating States meet 3 out of the following 4 compliance initiatives as follows:

1. Previous or Reporting Year Unregistered Motor Carrier Audits for Tiers 4, 5, and 6 and requiring 100% closure;

2. Tying Retreat Audits to Inspections that occurred within the previous year or reporting year and requiring 100% closure;

3. Making FARs Audits applicable to the current year (October-June) in Tiers 4, 5, and 6 and requiring 100% closure; and,

4. Previous or Reporting Year UCR Violations Audits and requiring 100% closure. The Board may consider action to approve (1) replacing the current compliance initiatives with the new compliance initiatives described above, and (2) revising the Annual State Audit Reporting Evaluation Process to require participating states to meet 3 out 4 of the new compliance initiatives beginning with the 2025 registration/audit year.

B. Discussion of Retreat Audit Program and Possible Options Under Consideration for the Program During Motor Carrier UCR Registration/Renewal—UCR Audit Subcommittee Chair, UCR Audit Subcommittee Vice Chair, DSL Transportation and Seiko Soft Representative

The Subcommittee Chair, Vice Chair, DSL Transportation and Seiko Soft will lead a discussion on the status of the new Retreat Audit Program. The new Program utilizes roadside inspection data to conduct real-time automated audits of both non-IRP and IRP-plated commercial motor vehicles (CMVs). At least three possible choices will be presented for Board discussion tying inspection data to a CMVs' UCR registration/renewal:

• Stopping the registration/renewal transaction if the CMV does not agree with the vehicle count.

• Interrupting the registration/renewal transaction by showing inspection data to the CMV and sending the renewal to support for assistance.

• Allowing for normal CMV registration/renewal but with the creation of a Retreat Audit.

Education and Training Subcommittee

The UCR Education and Training Subcommittee Chair will discuss the development of key projects. The projects that will be discussed include the development of the educational audit certificate program, the optimization and redesign of the UCR Plan website, and the creation of a video explaining the importance of the UCR Plan and the National Registration System.

Industry Advisory Subcommittee

The UCR Industry Advisory Subcommittee Chair will provide an update on current and planned initiatives, to include the development of a video series intended to increase participation in the UCR focused on brokers, motor carriers, and bus operators.

Enforcement Subcommittee

The UCR Enforcement Subcommittee Chair will provide an update on current and planned initiatives to include an update on PowerPoint training, the creation of standards for annual UCR enforcement awards and recognition, and the upcoming awareness initiative.

Dispute Resolution Subcommittee

No significant action to report.

IX. Amendment of “Professional Services Agreement” and “Additional Professional Services Agreement” Between the UCR Plan and DSL Transportation Services, Inc.—UCR Board Chair and UCR Executive Director

For Discussion and Possible Board Action

The UCR Board Chair and the UCR Executive Director will present proposed amendments to the “Professional Services Agreement” and “Additional Professional Services Agreement” between the UCR Plan and DSL Transportation Services, Inc. The proposed amendments would change the scope of both contracts. One proposed amendment would also change the term of the “Additional Professional Services Agreement” should the Board approve Audit Subcommittee Report Item A regarding the remake of compliance initiatives and annual state audit evaluation criteria. The Board may consider action to approve the proposed amendments to both agreements.

X. Contractor Reports

UCR Executive Director Report

The UCR Executive Director will provide a report covering his recent activity for the UCR Plan including any changes in the dates of UCR meetings in 2024.

UCR Administrator Report (Kellen)

The UCR Chief of Staff will provide a management update covering recent activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

XI. Other Business—UCR Board Chair

The UCR Board Chair will call for any other business, old or new, from the floor.

XII. Adjournment—UCR Board Chair

The UCR Board Chair will adjourn the meeting.

The agenda will be available no later than 5:00 p.m. Eastern time, August 7, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-18033 Filed 8-8-24; 4:15 pm]

BILLING CODE 4910-YL-P